Executive Order 13219 of June 26, 2001

Blocking Property of Persons Who Threaten International Stabilization Efforts in the Western Balkans

By the authority vested in me as President by the Constitution and the laws of the United States of America, including the International Emergency Economic Powers Act (50 U.S.C. 1701 et seq.)(IEEPA), the National Emergencies Act (50 U.S.C. 1601 et seq.), and section 301 of title 3, United States Code,

I, GEORGE W. BUSH, President of the United States of America, have determined that the actions of persons engaged in, or assisting, sponsoring, or supporting, (i) extremist violence in the former Yugoslav Republic of Macedonia, southern Serbia, the Federal Republic of Yugoslavia, and elsewhere in the Western Balkans region, or (ii) acts obstructing implementation of the Dayton Accords in Bosnia or United Nations Security Council Resolution 1244 of June 10, 1999, in Kosovo, threaten the peace in or diminish the security and stability of those areas and the wider region, undermine the authority, efforts, and objectives of the United Nations, the North Atlantic Treaty Organization (NATO), and other international organizations and entities present in those areas and the wider region, and endanger the safety of persons participating in or providing support to the activities of those organizations and entities, including United States military forces and Government officials. I find that such actions constitute an unusual and extraordinary threat to the national security and foreign policy of the United States, and hereby declare a national emergency to deal with that threat. I hereby order:

Section 1. (a) Except to the extent provided in section 203(b)(1), (3), and (4) of IEEPA (50 U.S.C. 1702(b)(1), (3), and (4)), the Trade Sanctions Reform and Export Enhancement Act of 2000 (title IX, Public Law 106-387), and in regulations, orders, directives, or licenses that may hereafter be issued pursuant to this order, and notwithstanding any contract entered into or any license or permit granted prior to the effective date, all property and interests in property of:

(i) the persons listed in the Annex to this order; and

(ii) persons designated by the Secretary of the Treasury, in consultation with the Secretary of State, because they are found:

(A) to have committed, or to pose a significant risk of committing, acts of violence that have the purpose or effect of threatening the peace in or diminishing the stability or security of any area or state in the Western Balkans region, undermining the authority, efforts, or objectives of international organizations or entities present in the region, or endangering the safety of persons participating in or providing support to the activities of those international organizations or entities, or,

(B) to have actively obstructed, or to pose a significant risk of actively obstructing, implementation of the Dayton Accords in Bosnia or United Nations Security Council Resolution 1244 in Kosovo, or

(C) materially to assist in, sponsor, or provide financial or technological support for, or goods or services in support of, such acts of violence or obstructionism, or

(D) to be owned or controlled by, or acting or purporting to act directly or indirectly for or on behalf of, any of the foregoing persons, that are or hereafter come within the United States, or that are or hereafter come within the possession or control of United States persons, are blocked and may not be transferred, paid, exported, withdrawn, or otherwise dealt in.

(b) I hereby determine that the making of donations of the type specified in section 203(b)(2) of IEEPA (50 U.S.C. 1702(b)(2)) by United States persons to persons designated in or pursuant to paragraph (a) of this section would seriously impair my ability to deal with the national emergency declared in this order. Accordingly, the blocking of property and interests in property pursuant to paragraph (a) of this section includes, but is not limited to, the prohibition of the making by a United States person of any such donation to any such designated person, except as otherwise authorized by the Secretary of the Treasury.

(c) The blocking of property and interests in property pursuant to paragraph (a) of this section includes, but is not limited to, the prohibition of the making or receiving by a United States person of any contribution or provision of funds, goods, or services to or for the benefit of a person designated in or pursuant to paragraph (a) of this section.

Sec. 2. Any transaction by a United States person that evades or avoids, or has the purpose of evading or avoiding, or attempts to violate, any of the prohibitions set forth in this order is prohibited. Any conspiracy formed to violate the prohibitions of this order is prohibited.

Sec. 3. For the purposes of this order:

(a) The term “person” means an individual or entity;

(b) The term “entity” means a partnership, association, trust, joint venture, corporation, group, subgroup, or other organization; and

(c) The term “United States person” means any United States citizen, permanent resident alien, entity organized under the laws of the United States or any jurisdiction within the United States (including foreign branches), or any person in the United States.

Sec. 4. The Secretary of the Treasury, in consultation with the Secretary of State, is hereby authorized to take such actions, including the promulgation of rules and regulations, and to employ all powers granted to me by IEEPA, as may be necessary to carry out the purposes of this order. The Secretary of the Treasury may redelegate any of these functions to other officers and agencies of the United States Government. All agencies of the United States Government are hereby directed to take all appropriate measures within their authority to carry out the provisions of this order and, where appropriate, to advise the Secretary of the Treasury in a timely manner of the measures taken.

Sec. 5. This order is not intended to create, nor does it create, any right, benefit, or privilege, substantive or procedural, enforceable at law by a party against the United States, its agencies, officers, or any other person.

Sec. 6. (a) This order is effective at 12:01 eastern daylight time on June 27, 2001;

(b) This order shall be transmitted to the Congress and published in the Federal Register.

B

THE WHITE HOUSE,

June 26, 2001.

Billing code 3195-01-P

ANNEX

I. Individuals

Name/DPOB (If Available) | Affiliation
Ademi, Xhevat DOB: 8 Dec 1962 POB: Tetovo, FYROM | NLA
Ahmeti, Ali DOB: 4 Jan 1959 POB: Kicevo, FYROM | NLA
Bexheti, Nuri DOB: 1962 POB: Tetovo, FYROM | NLA
Dalipi, Tahir DOB: 1958 POB: Ilince, Presevo mun., FRY | PCPMB
Elshani, Gafur DOB: 29 March 1958 POB: Suva Reka, FRY | LPK
Gashi, Sabit DOB: 30 December 1967 POB: Suva Reka, FRY | LKCK
Habibi, Skender DOB: 13 July 1968 POB: Ljubiste, FRY | PDK
Haradinaj, Daut DOB: 6 April 1978 POB: Goldane, FRY | Chief of Staff, KPC
Hasani, Xhavit DOB: 5 May 1957 POB: Tanishec, FYROM | NLA
Lladrovici, Ramiz DOB: 3 January 1966 POB: | Deputy Commander, Guard & Rapid Reaction Group, KPC
Lushtaku, Sami DOB: 20 February 1961 POB: Srbica, FRY | RTG 2 Commander, KPC
Musliu, Jonusz DOB: 5 January 1959 POB: Konculj, FRY | PCPMB
Musliu, Shefqet DOB: 12 February 1963 POB: Konculj, FRY | UCPMB
Mustafa, Rrustem DOB: 27 February 1971 POB: Podujevo, FRY | RTG 6 Commander, KPC
Ostremi, Gezim DOB: 1 November 1942 POB: Debar, Macedonia | NLA
Selimi, Rexhep DOB: 15 March 1971 POB: Iglarevo, FRY | Commander, Guard & Rapid Reaction Group, KPC
Shakiri, Hisni DOB: 1 March 1949 POB: Otlja, FYROM | NLA
Shaqiri, Shaqir DOB: 1 September 1964 POB: FRY | UCPMB
Suma, Emrush DOB: 27 May 1974 POB: Dimce, FRY | NLA
Syla, Azem DOB: 5 April 1951 POB: FRY | PDK
Veliu, Fazli DOB: 4 January 1945 POB: Kercove, FYROM | NLA
Xhemajli, Emrush DOB: 5 May 1959 POB: Urosevac, FRY | LPK
Xhemajli, Muhamet DOB: 8 February 1958 POB: Muhovac, FRY | UCPMB

II. Organizations

Liberation Army of Presevo, Medvedja, and Bujanovac (PMBLA a.k.a. UCPMB)

National Liberation Army (NLA a.k.a. UCK)

National Movement for the Liberation of Kosovo (LKCK)

Political Council of Presevo, Medvedja, and Bujanovac (PCPMB)

Popular Movement of Kosovo (LPK)

[FR Doc. 01-16668

Filed 6-28-01; 11:33 am]

Billing code 4710-10-M